DEPARTMENT OF COMMERCE

National Oceanic and Atmospheric Administration

15 CFR Part 902

50 CFR Parts 300 and 679

[Docket No. 151001910-6999-02]

RIN 0648-BF42

Fisheries of the Exclusive Economic Zone Off Alaska; Allow the Use of Longline Pot Gear in the Gulf of Alaska Sablefish Individual Fishing Quota Fishery; Amendment 101; Correction

AGENCY: National Marine Fisheries Service (NMFS), National Oceanic and Atmospheric Administration (NOAA), Commerce.

ACTION: Stay of final rule; correction.

SUMMARY: NMFS published a “Stay of final rule” on January 31, 2017—in accordance with the memorandum of January 20, 2017, from the Assistant to the President and Chief of Staff, entitled “Regulatory Freeze Pending Review,” published in the Federal Register on January 24, 2017 (the Memorandum)—to delay the effective date of the final rule NMFS published on December 28, 2016. This notification corrects the effectiveness date from “March 12, 2017” to “March 11, 2017.” For consistency and clarity, the complete new DATES section has been set out below in its entirety.

DATES: Effective February 7, 2017, the final rule amending 15 CFR part 902, and 50 CFR parts 300 and 679, that published on December 28, 2016, at 81 FR 95435, is stayed to March 11, 2017.

FOR FURTHER INFORMATION CONTACT: Rachel Baker, 907-586-7228.

SUPPLEMENTARY INFORMATION:

Background

On December 28, 2016, NMFS published this final rule to implement Amendment 101 to the Fishery Management Plan for Groundfish of the Gulf of Alaska (GOA FMP) for the sablefish individual fishing quota (IFQ) fisheries in the Gulf of Alaska (GOA). This final rule authorizes the use of longline pot gear in the GOA sablefish IFQ fishery. In addition, this final rule establishes management measures to minimize potential conflicts between hook-and-line and longline pot gear used in the sablefish IFQ fisheries in the GOA. This final rule also includes regulations developed under the Northern Pacific Halibut Act of 1982 (Halibut Act) to authorize harvest of halibut IFQ caught incidentally in longline pot gear used in the GOA sablefish IFQ fishery. This final rule is necessary to improve efficiency and provide economic benefits for the sablefish IFQ fleet and minimize potential fishery interactions with whales and seabirds. This action is intended to promote the goals and objectives of the Magnuson-Stevens Fishery Conservation and Management Act, the Halibut Act, the GOA FMP, and other applicable laws.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we enacted a stay of the rule published on December 28, 2016, at 81 FR 95435 (see DATES above) until March 12, 2017, in a “Stay of final rule” document published on January 31, 2017 (82 FR 8810).

Need for Correction

After the “Stay of final rule” published on January 31, 2017, NMFS is correcting the effective date of “March 12, 2017” to “March 11, 2017” to better align with current fisheries management goals. NMFS publishes this notification to correct the stay of effective date.

Corrections

In the Federal Register of January 31, 2017, in FR Doc. 2017-02055, “March 12, 2017” is corrected to read “March 11, 2017” in the following places:

1. In the DATES section on page 8810 in the second column, which is also set out in its entirety above for clarity and consistency;

2. On page 8810, third column, second paragraph, last sentence; and

3. On page 8811, in the following amendatory instructions: 2, 4, 6, 7, 8, 9, 10, 11, 12, 13, and 14.

Authority: 16 U.S.C. 1801 et seq.

Dated: February 2, 2017.
Alan D. Risenhoover,
Acting Deputy Assistant Administrator for Regulatory Programs, National Marine Fisheries Service.

[FR Doc. 2017-02463 Filed 2-6-17; 8:45 am]

BILLING CODE 3510-22-P